ENVIRONMENTAL PROTECTION AGENCY

[EPA-R4-SFUND 2012-; FRL-9624-1]

Ecusta Mill Site, Pisgah Forest, Transylvania County, NC; Notice of Amended Settlement

AGENCY: Environmental Protection Agency.

ACTION: Notice of amended settlement.

SUMMARY: Under Section 122(h)(1) of the Comprehensive Environmental Response, Compensation and Liability Act (CERCLA), the United States Environmental Protection Agency has amended a settlement for resolution of past response and future costs concerning the Ecusta Mill Superfund Site located in Pisgah Forest, Transylvania County, North Carolina.

DATES: The Agency will consider public comments on the settlement until February 29, 2012. The Agency will consider all comments received and may modify or withdraw its consent to the settlement if comments received disclose facts or considerations which indicate that the settlement is inappropriate, improper, or inadequate.

ADDRESSES: Copies of the settlement are available from Ms. Paula V. Painter. Submit your comments by Site name Ecusta Mill Superfund Site by one of the following methods:

• www.epa.gov/region4/waste/sf/enforce.htm.

• Email. Painter.Paula@epa.gov.

FOR FURTHER INFORMATION CONTACT: Paula V. Painter at 404/562-8887.

Dated: December 16, 2011.
Anita L. Davis,
Chief, Superfund Enforcement & Information Management Branch, Superfund Division.

[FR Doc. 2012-1940 Filed 1-27-12; 8:45 am]

BILLING CODE 6560-50-P